DEPARTMENT OF HEALTH AND HUMAN SERVICES

National Toxicology Program (NTP); Center for the Evaluation of Risks to Human Reproduction (CERHR); Second Bisphenol A Expert Panel Meeting and Interim Draft Expert Panel Report on Bisphenol A: Announcement of Postponed Meeting and Extension of Public Comment Period

AGENCY: National Institute of Environmental Health Sciences (NIEHS); National Institutes of Health.

ACTION: Announcement of postponed meeting and extension of public comment period.

SUMMARY: The second meeting of the expert panel on bisphenol A originally scheduled for May 21-23, 2007 [Federal Register, April 2, 2007 (Vol. 72, No. 62, page 15695-15696)] is postponed. The new date for the meeting will be announced in a future Federal Register notice. During this time, NTP will conduct an independent audit of all materials used in the bisphenol-A review. Also, the deadline for submission of written public comments on the interim draft expert panel report on bisphenol A is extended until June 20, 2007. The interim draft report is posted on the CERHR Web site (http://cerhr.niehs.nih.gov/chemicals/bisphenol/bisphenol.html) and available in printed text from CERHR (see FOR FURTHER INFORMATION CONTACT below). Persons submitting written comments are asked to include their name and contact information [affiliation (if applicable), mailing address, telephone, e-mail, and sponsoring organization (if any)] and send the comments to Dr. Michael D. Shelby (see ADDRESSES below). Comments received will be posted on the CERHR Web site.

DATES: Written comments on the interim draft expert panel report should be received by June 20, 2007.

ADDRESSES: Comments on the interim draft report should be sent to Dr. Michael D. Shelby, CERHR Director, NIEHS, P.O. Box 12233, MD EC-32, Research Triangle Park, NC 27709 (mail), (919) 316-4511 (fax), or shelby@niehs.nih.gov (e-mail). Courier address: CERHR, 79 T.W. Alexander Drive, Building 4401, Room 103, Research Triangle Park, NC 27709.

FOR FURTHER INFORMATION CONTACT: Dr. Michael D. Shelby, CERHR Director, 919-541-3455, shelby@niehs.nih.gov.

Dated: April 23, 2007.
Samuel H. Wilson,
Deputy Director, National Institute of Environmental Health Sciences and National Toxicology Program.

[FR Doc. E7-8292 Filed 4-30-07; 8:45 am]

BILLING CODE 4140-01-P